ENVIRONMENTAL PROTECTION AGENCY

[ER-FRL-6667-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050319, ERP No. D-FTA-J53006-UT, Mid-Jordan Transit Corridor Project, Proposed Light Rail Transit Service, Funding, Salt Lake County, UT.

Summary: EPA has environmental concerns with the proposed project due to the impacts of noise and vibration on residents living in close proximately to the proposed light rail line and associated train stations. EPA anticipates that more information regarding the mitigation of these impacts will be provided in the FEIS. Rating EC2.

EIS No. 20050321, ERP No. D-USA-D11038-PA, Pennsylvania Army National Guard's 56th Brigade Transformation into a Stryker Brigade Combat Team (SBCT) , Proposal to Comply with this Directive, near Annville, PA.

Summary: EPA expressed concern related to wetland, air quality PM10, noise and forest habitat impacts. EPA requested addition information and mitigation of these issues. Rating EC2.

Final EISs

EIS No. 20050324, ERP No. F-FRA-E40799-FL, Florida High Speed Rail, Tampa to Orlando, Transportation Improvement, NPDES Permit and U.S. Army COE Section 404 Permit, Hillsborough, Orange Osceola , and Polk Counties, FL.

Summary: While strongly supporting the proposed project, EPA continues to have environmental concerns related primarily to noise and vibration impacts. EPA also has concerns regarding the borrow areas utilized for fill material as well as impacts to wildlife. EPA recommends that environmental mitigation be further addressed in the ROD and subsequent permitting.

EIS No. 20050332, ERP No. F-AFS-L65449-AK, Couverden Timer Sales, Harvesting Timber, NPDES, Coast Guard Bridge Permit, U.S. Army COE Section 10 and 404 Permits, Tongass National Forest, Juneau Ranger District, Chilkat Peninsula, AK.

Summary: No formal comment letter was sent to the preparing agency.

Dated: September 27, 2005.
Ken Mittelholtz,
Environmental Protection Specialist, Office of Federal Activities.

[FR Doc. 05-19605 Filed 9-29-05; 8:45 am]

BILLING CODE 6560-50-P